DEPARTMENT OF THE INTERIOR

Bureau of Reclamation

[RR04093000, XXXR4081X3, RX.05940913.FY19400]

Public Meeting of the Glen Canyon Dam Adaptive Management Work Group

AGENCY: Bureau of Reclamation, Interior.

ACTION: Notice of public meeting.

SUMMARY: In accordance with the Federal Advisory Committee Act of 1972, the Bureau of Reclamation (Reclamation) is publishing this notice to announce that a Federal Advisory Committee meeting of the Glen Canyon Dam Adaptive Management Work Group (AMWG) will take place.

DATES: The meeting will be held virtually on Wednesday, August 18, 2021, from 9:30 a.m. to approximately 5:00 p.m. (MDT); and Thursday, August 19, 2021, from 9:30 a.m. to approximately 4:00 p.m. (MDT).

ADDRESSES: The meeting will be held virtually for Wednesday, August 18 at https://rec.webex.com/rec/j.php?MTID=m13bea902af78b719731c73238388a7e0, Meeting Number: 199 214 8505, Password: Aug18.

The meeting will be held virtually for Thursday, August 19 at https://rec.webex.com/rec/j.php?MTID=mc3f8e361d6f59654a643773b1680dfec, Meeting Number: 199 081 2526, Password: Aug19.

FOR FURTHER INFORMATION CONTACT: Ms. Lee Traynham, Bureau of Reclamation, telephone (801) 524-3752, email at ltraynham@usbr.gov.

SUPPLEMENTARY INFORMATION: The Glen Canyon Dam Adaptive Management Program (GCDAMP) was implemented as a result of the Record of Decision on the Operation of Glen Canyon Dam Final Environmental Impact Statement to comply with consultation requirements of the Grand Canyon Protection Act (Pub. L. 102-575) of 1992. The AMWG makes recommendations to the Secretary of the Interior concerning Glen Canyon Dam operations and other management actions to protect resources downstream of Glen Canyon Dam, consistent with the Grand Canyon Protection Act. The AMWG meets two to three times a year.

Agenda: The AMWG will meet to receive updates on: (1) Current basin hydrology and operations; (2) proposed revisions to the GCDAMP budget and workplan for fiscal year 2022; (3) experiments implemented in 2021 and those considered for implementation in 2022; (4) the status of threatened and endangered species; (5) long-term funding considerations; and (6) project work and other activities completed by GCDAMP Tribal partners. The AMWG will also discuss other administrative and resource issues pertaining to the GCDAMP. To view a copy of the agenda and documents related to the above meeting, please visit Reclamation's website at https://www.usbr.gov/uc/progact/amp/amwg.html.

Meeting Accessibility/Special Accommodations: The meeting is open to the public. Individuals requiring special accommodations to access the public meeting should contact Ms. Lee Traynham (see FOR FURTHER INFORMATION CONTACT) at least (5) business days prior to the meeting so appropriate arrangements can be made.

Public Disclosure of Comments: Time will be allowed on both days for any individual or organization wishing to make extemporaneous and/or formal oral comments. To allow for full consideration of information by the AMWG members, written notice must be provided to Ms. Lee Traynham (see FOR FURTHER INFORMATION CONTACT) prior to the meeting. Any written comments received will be provided to the AMWG members.

Before including your address, phone number, email address, or other personal identifying information in your comment, you should be aware that your entire comment—including your personal identifying information—may be made publicly available at any time. While you can ask us in your comment to withhold your personal identifying information from public review, we cannot guarantee that we will be able to do so.

Lee Traynham,
Chief, Adaptive Management Group, Resources Management Division, Upper Colorado Basin—Interior Region 7.

[FR Doc. 2021-16209 Filed 7-29-21; 8:45 am]

BILLING CODE 4332-90-P